NUCLEAR REGULATORY COMMISSION

[Docket No. 52-047; NRC-2016-0119]

Tennessee Valley Authority; Clinch River Nuclear Site; Early Site Permit Application

AGENCY: Nuclear Regulatory Commission.

ACTION: Intent to prepare environmental impact statement and conduct scoping process; public meeting and request for comment.

SUMMARY: The U.S. Nuclear Regulatory Commission (NRC) received an application from the Tennessee Valley Authority (TVA), for an early site permit (ESP) for the Clinch River Nuclear (CRN) Site, located in Roane County, Tennessee, along the Clinch River, approximately 25 miles west-southwest of downtown Knoxville, Tennessee. The purposes of this notice are to inform the public that the NRC staff will be preparing an environmental impact statement (EIS) as part of the review of the application for the ESP and to provide the public with an opportunity to participate in the environmental scoping process as defined in the regulations.

DATES: Submit comments by June 12, 2017. Comments received after this date will be considered if it is practical to do so, but the Commission is able to ensure consideration only for comments received on or before this date. The public scoping meetings will be held on May 15, 2017.

ADDRESSES: You may submit comment by any of the following methods (unless this document describes a different method for submitting comments on a specific subject):

• Federal Rulemaking Web site: Go to http://www.regulations.gov and search for Docket ID NRC-2016-0119. Address questions about NRC dockets to Carol Gallagher; telephone: 301-415-3463; email: Carol.Gallagher@nrc.gov. For technical questions, contact the individuals listed in the FOR FURTHER INFORMATION CONTACT section of this document.

• NRC Project Email Address: Electronic comments may be sent by email to the NRC at ClinchRiverESPEIS@nrc.gov.

• Mail comments to: Cindy Bladey, Office of Administration, Mail Stop: OWFN-12-H08, U.S. Nuclear Regulatory Commission, Washington, DC 20555-0001.

For additional direction on accessing information and submitting comments, see “Obtaining Information and Submitting Comments” in the SUPPLEMENTARY INFORMATION section of this document.

FOR FURTHER INFORMATION CONTACT: Patricia Vokoun, telephone: 1-800-368-5642, extension 3470, email: Patricia.Vokoun@nrc.gov; or Tamsen Dozier, telephone: 1-800-368-5642, extension 2272, email: Tamsen.Dozier@nrc.gov. Both are staff of the Office of New Reactors, U.S. Nuclear Regulatory Commission, Washington, DC 20555-0001.

SUPPLEMENTARY INFORMATION:

I. Obtaining Information and Submitting Comments

A. Obtaining Information

Please refer to Docket ID NRC-2016-0119 when contacting the NRC about the availability of information regarding this document. You may obtain publicly-available information related to this action by the following methods:

• Federal Rulemaking Web site: Go to http://www.regulations.gov and search for Docket ID NRC-2016-0119.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section. In addition, for the convenience of the reader, the ADAMS accession numbers are provided in a table in the section of this notice entitled, Availability of Documents.

• NRC's PDR: You may examine and purchase copies of public documents at the NRC's PDR, Room O1-F21, One White Flint North, 11555 Rockville Pike, Rockville, Maryland 20852.

B. Submitting Comments

Please include Docket ID NRC-2016-0119 in the subject line of your comment submission, in order to ensure that the NRC is able to make your comment submission available to the public in this docket.

The NRC cautions you not to include identifying or contact information that you do not want to be publicly disclosed in your comment submission. The NRC will post all comment submissions received through the Federal Rulemaking Web site (http://www.regulations.gov) in the Regulations.gov docket (NRC-2016-0119), and will also enter the comment submissions into ADAMS. Comments submitted through the NRC project email address will only be available in ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Introduction

Pursuant to part 52 of title 10 of the Code of Federal Regulations (10 CFR), on May 12, 2016, TVA submitted an application for an ESP for the Clinch River Nuclear (CRN) Site, located on approximately 1,200 acres in Roane County, Tennessee, along the Clinch River, approximately 25 miles west-southwest of downtown Knoxville, Tennessee.

III. Further Information

A notice of receipt and availability of the application, including the environmental report (ER), was published in the Federal Register on June 23, 2016 (81 FR 40929). A notice of acceptance for docketing of the application for the ESP was published in the Federal Register on January 12, 2017 (82 FR 3812). A notice of hearing and opportunity to petition for leave to intervene in the proceeding on the application was published in the Federal Register on April 4, 2017, (82 FR 16436).

The purposes of this notice are to inform the public that the NRC staff will be preparing an environmental impact statement as part of the review of the application for the ESP and to provide the public with an opportunity to participate in the environmental scoping process as defined in 10 CFR 51.29.

In addition, as outlined in 36 CFR 800.8(c), “Coordination with the National Environmental Policy Act,” the NRC staff plans to coordinate compliance with Section 106 of the National Historic Preservation Act (NHPA) with steps taken to meet the requirements of the National Environmental Policy Act of 1969, as amended (NEPA). Pursuant to 36 CFR 800.8(c), the NRC staff intends to use the process and documentation for the preparation of the EIS on the proposed action to comply with Section 106 of the NHPA in lieu of the procedures set forth on 36 CFR 800.3 through 800.6.

In accordance with 10 CFR 51.45 and 51.50, TVA submitted the environmental ER as part of the application; the ER is available in ADAMS under Accession No. ML16144A145. The application may also be viewed on the NRC's public Web site at https://www.nrc.gov/reactors/new-reactors/esp/clinch-river.html. In addition, the Oak Ridge Public Library, 1401 Oak Ridge Turnpike, Oak Ridge, Tennessee, and the Kingston Public Library, 1004 Bradford Way, Kingston, Tennessee, have agreed to make the ER available for public inspection.

This notice advises the public that the NRC intends to gather the information necessary to prepare an EIS as part of the review of the application for the ESP at the CRN Site. Possible alternatives to the proposed action (issuance of the ESP for the CRN Site) include no action and alternate sites. As set forth in 10 CFR 51.20(b)(1), issuance of an ESP under 10 CFR part 52 is an action that requires an EIS. This notice is being published in accordance with NEPA and the NRC's regulations in 10 CFR part 51.

The NRC will first conduct a scoping process for the EIS and, as soon as practicable thereafter, will prepare a draft EIS for public comment. Participation in this scoping process by members of the public and local, State, Tribal, and Federal Government agencies is encouraged. The scoping process for the draft EIS will be used to accomplish the following:

a. Define the proposed action that is to be the subject of the EIS;

b. Determine the scope of the EIS and identify the significant issues to be analyzed in depth;

c. Identify and eliminate from detailed study those issues that are peripheral or that are not significant;

d. Identify any environmental assessments and other EISs that are being or will be prepared that are related to but are not part of the scope of the EIS being considered;

e. Identify other ER and consultation requirements related to the proposed action;

f. Identify parties consulting with the NRC under the NHPA, as set forth in 36 CFR 800.8(c)(1)(i);

g. Indicate the relationship between the timing of the preparation of the environmental analyses and the Commission's tentative planning and decision-making schedule;

h. Identify any cooperating agencies and, as appropriate, allocate assignments for preparation and schedules for completing the EIS to the NRC and any cooperating agencies; and

i. Describe how the EIS will be prepared, including any contractor assistance to be used.

The NRC invites the following entities to participate in the scoping process:

a. The applicant, TVA;

b. Any Federal agency that has jurisdiction by law or special expertise with respect to any environmental impact involved or that is authorized to develop and enforce relevant environmental standards;

c. Affected State and local government agencies, including those authorized to develop and enforce relevant environmental standards;

d. Any affected Indian Tribe;

e. Any person who requests or has requested an opportunity to participate in the scoping process; and

f. Any person who intends to petition for leave to intervene in the proceeding, or who has submitted such a petition, who is admitted as a party.

III. Availability of Documents

The following table indicates how the key reference documents related to the application and the NRC staff's review processes may be accessed.

Document title | ADAMS Accession No. or Web site
10 CFR Part 51, Environmental Protection Regulations for Domestic Licensing and Related Regulatory Function | https://www.nrc.gov/reading-rm/doc-collections/cfr/part051/.
10 CFR Part 52, Licenses, Certifications, and Approvals for Nuclear Power Plants | https://www.nrc.gov/reading-rm/doc-collections/cfr/part052/.
10 CFR Part 100, Reactor Site Criteria | https://www.nrc.gov/reading-rm/doc-collections/cfr/part100/.
NUREG-1555, Standard Review Plans for Environmental Reviews for Nuclear Power Plants | https://www.nrc.gov/reading-rm/doc-collections/nuregs/staff/sr1555/.
NUREG/BR-0298, Brochure on Nuclear Power Plant Licensing Process | https://www.nrc.gov/reading-rm/doc-collections/nuregs/brochures/br0298/.
Regulatory Guide 4.2, Preparation of Environmental Reports for Nuclear Power Stations (Supplement 1) | https://www.nrc.gov/docs/ML1306/ML13067A354.pdf.
Regulatory Guide 4.7, General Site Suitability Criteria for Nuclear Power Stations | https://www.nrc.gov/docs/ML1218/ML12188A053.pdf.
Fact Sheet on Nuclear Power Plant Licensing Process | https://www.nrc.gov/reading-rm/doc-collections/fact-sheets/licensing-process-fs.html.
Regulatory Guide 1.206, Combined License Applications for Nuclear Power Plants | https://www.nrc.gov/reading-rm/doc-collections/reg-guides/power-reactors/rg/01-206/.
Nuclear Regulatory Commission Policy Statement on the Treatment of Environmental Justice Matters in NRC Regulatory and Licensing Actions | https://www.gpo.gov/fdsys/pkg/FR-2004-08-24/pdf/04-19305.pdf.

The NRC may post materials related to this document, including public comments, on the Federal Rulemaking Web site at http://www.regulations.gov under Docket ID NRC-2016-0119. The Federal Rulemaking Web site allows you to receive alerts when changes or additions occur in a docket folder. To subscribe: (1) Navigate to the docket folder (NRC-2016-0119); (2) click the “Sign up for Email Alerts” link; and (3) enter your email address and select how frequently you would like to receive emails (daily, weekly, or monthly).

IV. Public Scoping Meeting

In accordance with 10 CFR 51.26, the scoping process for an EIS may include a public scoping meeting to help identify significant issues related to a proposed activity and to determine the scope of issues to be addressed in an EIS. The NRC will hold two identical public scoping meetings for the EIS regarding the TVA ESP application.

The scoping meetings will be held at Pollard Technology Conference Center Auditorium, 210 Badger Avenue, Oak Ridge, Tennessee on May 15, 2017. The meeting will convene at 2:00 p.m. and will continue until approximately 4:00 p.m. The second meeting will convene at 7:00 p.m., with a repetition of the overview portions of the first meeting, and will continue until approximately 9:00 p.m. The meetings will be transcribed and will include the following:

(1) An overview by the NRC staff of the NEPA environmental review process, the proposed scope of the EIS, and the proposed review schedule; and

(2) the opportunity for interested government agencies, organizations, and individuals to submit comments or suggestions on the environmental issues or the proposed scope of the EIS. Additionally, the NRC staff will host informal discussions for 1 hour prior to the start of each public meeting. No formal comments on the proposed scope of the EIS will be accepted during the informal discussions. To be considered, comments must be provided either at the transcribed public meeting or in writing, as discussed below.

Persons may register to attend or present oral comments at the meeting on the scope of the NEPA review by contacting Ms. Patricia Vokoun by telephone at 1-800-368-5642, extension 3470, or by email to the NRC at ClinchRiverESPEIS@nrc.gov (no formal comments will be accepted through this email address) no later than May 7, 2017. Members of the public may also register to speak at the meeting prior to the start of the session. Individual oral comments may be limited by the time available, depending on the number of persons who register. Members of the public who have not registered may also have an opportunity to speak, if time permits. Public comments will be considered in the scoping process for the EIS. If special equipment or accommodations are needed to attend or present information at the public meeting, the need should be brought to Ms. Vokoun's attention no later than May 1, 2017, so that the NRC staff can determine whether the request can be accommodated. Participation in the scoping process for the EIS does not entitle participants to become parties to the proceeding to which the EIS relates.

At the conclusion of the scoping process, the NRC staff will prepare a concise summary of the determination and conclusions reached on the scope of the environmental review including the significant issues identified, and will send this summary to each participant in the scoping process for whom the staff has an address and will make this summary publicly available. The NRC staff will then prepare and issue for comment the draft EIS, which will be the subject of a separate Federal Register notice and a separate public meeting. Copies of the draft EIS will be available for public inspection at the PDR through the address in Section I.A. of this notice and one copy per request will be provided free of charge. After receipt and consideration of comments on the draft EIS, the NRC will prepare a final EIS, which will also be available to the public.

Dated at Rockville, Maryland, this 7th day of April, 2017.
For the Nuclear Regulatory Commission.
Francis M. Akstulewicz,
Director, Division of New Reactor Licensing, Office of New Reactors.

[FR Doc. 2017-07501 Filed 4-12-17; 8:45 am]

BILLING CODE 7590-01-P